DEPARTMENT OF EDUCATION

Submission for OMB Review; Comment Request

AGENCY: Department of Education.

ACTION: Correction notice.

SUMMARY: On June 27, 2003, the Department of Education published a 30-day public comment period notice in the Federal Register (page 38317, column 3) for the information collection, “Federal Family Education Loan Program Federal Consolidation Loan Application and Promissory Note”. This notice was published in error. After a thorough review of public comments received during the 60-day public comment period, another 30-day public comment period notice will be published. The Leader, Regulatory Information Management Group, Office of the Chief Information Officer, hereby issues a correction notice as required by the Paperwork Reduction Act of 1995.

FOR FURTHER INFORMATION CONTACT: Joe Schubart at his e-mail address Joe.Schubart@ed.gov.

Dated: June 30, 2003.
Angela Arrington,
Leader, Regulatory Management Group, Office of the Chief Information Officer.

[FR Doc. 03-17006 Filed 7-3-03; 8:45 am]

BILLING CODE 4000-01-P